DEPARTMENT OF HEALTH AND HUMAN SERVICES

National Institutes of Health

Center for Scientific Review; Amended Notice of Meeting

Notice is hereby given of a change in the meeting of the Biodata Management and Analysis Study Section, October 02, 2013, 08:00 a.m. to October 3, 2013, 04:00 p.m., Hyatt Regency Bethesda, One Bethesda Metro Center, 7400 Wisconsin Avenue, Bethesda, MD 20814, which was published in the Federal Register on September 3, 2013, 78 FR 170 Pgs. 54259-54261.

The meeting will start on December 3, 2013 at 8:00 a.m. and end December 4 2013 at 5:00 p.m. The meeting location remains the same. The meeting is closed to the public.

Dated: October 29, 2013.
Melanie J. Gray,
Program Analyst, Office of Federal Advisory Committee Policy.

[FR Doc. 2013-26149 Filed 11-1-13; 8:45 am]

BILLING CODE 4140-01-P